DEPARTMENT OF THE INTERIOR

Fish and Wildlife Service

[FWS-R3-R-2013-N164; FXRS1265030000-134-FF03R06000]

DeSoto and Boyer Chute National Wildlife Refuges; Washington County, Nebraska, and Harrison and Pottawattamie Counties, Iowa; Draft Environmental Assessment and Comprehensive Conservation Plan

AGENCY: Fish and Wildlife Service, Interior.

ACTION: Notice of availability; request for comments.

SUMMARY: We, the U.S. Fish and Wildlife Service (Service), announce the availability of an environmental assessment (EA) and draft comprehensive conservation plan (CCP) for DeSoto and Boyer Chute National Wildlife Refuges (Refuges, NWRs) for public review and comment. In this EA/Draft CCP, we describe how we propose to manage the refuges for the next 15 years.

DATES: To ensure consideration, we must receive your written comments by October 21, 2013. We will hold open house-style meetings during the public review period to receive comments and provide information on the draft plan. In addition, we will use mailings, newspaper articles, internet postings, and other media announcements to inform people of opportunities for input.

ADDRESSES: Send your comments or requests for more information by any of the following methods:

• Email: r3planning@fws.gov. Include “DeSoto and Boyer Chute EA/Draft CCP” in the subject line of the message.

• Fax: Attention: Refuge Manager, 712-388-4808.

• U.S. Mail: Attention: Refuge Manager, DeSoto and Boyer Chute National Wildlife Refuges, 1434 316th Lane, Missouri Valley, IA 51555.

• In-Person Drop Off: You may drop off comments during regular business hours at the above address.

You will find the draft EA/CCP, as well as information about the planning process and a summary of the CCP, on the planning Web site: http://www.fws.gov/midwest/planning/desoto_boyerchute/index.html.

FOR FURTHER INFORMATION CONTACT: Tom Cox, 712-388-4801.

SUPPLEMENTARY INFORMATION:

Introduction

With this notice, we continue the CCP process for DeSoto and Boyer Chute National Wildlife Refuges. We began the CCP process for Boyer Chute Refuge by publishing a notice of intent in the Federal Register (75 FR 7289) on February 18, 2010 and for DeSoto Refuge by publishing a notice of intent in the Federal Register (76 FR 76745) on December 8, 2011. For more information about the initial process and the history of these refuges, see those notices.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The draft EA/CCP, which includes detailed information about the planning process, refuges, issues, and management alternatives considered and proposed, may be found at http://www.fws.gov/midwest/planning/desoto_boyerchute/index.html.

Public Involvement

We will give the public an opportunity to provide input at public meetings. You can obtain the schedule from the address or Web site listed in this notice (see ADDRESSES). You may also submit comments anytime during the comment period.

Public Availability of Comments

Before including your address, phone number, email address, or other personally identifiable information in your comment, you should be aware that your entire comment—including your personally identifiable information—may be made publicly available at any time. While you can ask us in your comment to withhold your personally identifiable information from public review, we cannot guarantee that we will be able to do so.

Charles M. Wooley,
Acting Regional Director, Midwest Region, U.S. Fish and Wildlife Service.

[FR Doc. 2013-22956 Filed 9-19-13; 8:45 am]

BILLING CODE 4310-55-P